DEPARTMENT OF HEALTH AND HUMAN SERVICES

Food and Drug Administration

[Docket No. FDA-2009-N-0294]

Regulation of Tobacco Products; Extension of Comment Period

AGENCY: Food and Drug Administration, HHS.

ACTION: Notice; extension of comment period.

SUMMARY: The Food and Drug Administration (FDA) is extending to December 28, 2009, the comment period for the notice that appeared in the Federal Register of July 1, 2009 (74 FR 31457). In the notice, FDA requested comments on the implementation of the Family Smoking Prevention and Tobacco Control Act (the Tobacco Act). The agency is taking this action in response to a request for an extension to allow interested persons additional time to submit comments.

DATES: Submit electronic and written comments by December 28, 2009.

ADDRESSES: Submit electronic comments to http://www.regulations.gov.

Submit written comments to the Division of Dockets Management (HFA-305), Food and Drug Administration, 5630 Fishers Lane, rm. 1061, Rockville, MD 20852.

FOR FURTHER INFORMATION CONTACT: Erik Mettler, Center for Tobacco Products, Food and Drug Administration, 9200 Corporate Blvd., Rockville, MD, 20850-3229, 301-796-4830, Erik.Mettler@fda.hhs.gov.

SUPPLEMENTARY INFORMATION:

I. Background

In the Federal Register of July 1, 2009 (74 FR 31457), FDA published a notice with a 90-day comment period to request comments on the implementation of the Tobacco Act. Comments from the public will inform FDA's actions implementing the Tobacco Act.

The agency has received a request for an extension of the comment period for the notice. This request conveyed concern that the current 90-day comment period does not allow sufficient time to develop a meaningful or thoughtful response to the notice.

FDA has considered the request and is extending the comment period for the notice for 90 days, until December 28, 2009. The agency believes that a 90-day extension allows adequate time for interested persons to submit comments without significantly delaying rulemaking on these important issues.

II. Request for Comments

Interested persons may submit to the Division of Dockets Management (see ADDRESSES) electronic or written comments on this document. Submit a single copy of electronic comments or two paper copies of any mailed comments, except that individuals may submit one paper copy. Comments are to be identified with the docket number found in brackets in the heading of this document. Received comments may be seen in the Division of Dockets Management between 9 a.m. and 4 p.m., Monday through Friday.

Dated: September 25, 2009.
David Horowitz,
Assistant Commissioner for Policy.

[FR Doc. E9-23607 Filed 9-28-09; 11:15 am]

BILLING CODE 4160-01-S